DEPARTMENT OF COMMERCE

National Oceanic and Atmospheric Administration

[RTID 0648-XE599]

Marine Mammals; File No. 27514-02

AGENCY: National Marine Fisheries Service (NMFS), National Oceanic and Atmospheric Administration (NOAA), Commerce.

ACTION: Notice; receipt of application for permit amendment.

SUMMARY: Notice is hereby given that Heather E. Liwanag, Ph.D., California Polytechnic State University, 1 Grand Avenue, San Luis Obispo, CA 93407-0401, has applied for an amendment to Scientific Research Permit No. 27514-01.

DATES: Written comments must be received on or before February 10, 2025.

ADDRESSES: The application and related documents are available for review by selecting “Records Open for Public Comment” from the “Features” box on the Applications and Permits for Protected Species home page, https://apps.nmfs.noaa.gov, and then selecting File No. 27514-02 from the list of available applications. These documents are also available upon written request via email to NMFS.Pr1Comments@noaa.gov.

Written comments on this application should be submitted via email to NMFS.Pr1Comments@noaa.gov. Please include File No. 27514-02 in the subject line of the email comment.

Those individuals requesting a public hearing should submit a written request via email to NMFS.Pr1Comments@noaa.gov. The request should set forth the specific reasons why a hearing on this application would be appropriate.

FOR FURTHER INFORMATION CONTACT: Jennifer Skidmore or Sara Young, (301)427-8401.

SUPPLEMENTARY INFORMATION: The subject amendment to Permit No. 27514 is requested under the authority of the Marine Mammal Protection Act of 1972, as amended (16 U.S.C. 1361 et seq.), the regulations governing the taking and importing of marine mammals (50 CFR part 216), and the Fur Seal Act of 1966, as amended (16 U.S.C. 1151 et seq.).

Permit No. 27514, issued on March 21, 2024 (89 FR 27418, April 17, 2024), authorizes the permit holder to conduct research on northern elephant seals (Mirounga angustirostris) in California, including unintentional harassment of California sea lions (Zalophus californianus), harbor seals (Phoca vitulina), and northern fur seals (Callorhinus ursinus). This permit was amended on July 11, 2024, increasing the unintentional harassment for California sea lions and northern fur seals. The permit holder is requesting the permit be amended to increase the number of northern elephant seals to be included in the infrared thermography project from 25 to 100 pups/juveniles and 50 adults to 200 non-pups (juveniles and adults of both sexes).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: January 3, 2025.
Julia M. Harrison,
Chief, Permits and Conservation Division, Office of Protected Resources, National Marine Fisheries Service.

[FR Doc. 2025-00276 Filed 1-8-25; 8:45 am]

BILLING CODE 3510-22-P